FEDERAL COMMUNICATIONS COMMISSION

Notice of Public Information Collection(s) Being Reviewed by the Federal Communications Commission, Comments Requested

March 11, 2002.

SUMMARY: The Federal Communications Commission, as part of its continuing effort to reduce paperwork burden invites the general public and other Federal agencies to take this opportunity to comment on the following collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 17, 2002. If you anticipate that you will be submitting comments, but find it difficult to do so within the period of time allowed by this notice, you should advise the contact listed below as soon as possible.

ADDRESSES Direct all comments to Judy Boley Herman or Leslie Smith, Federal Communications Commission, Room 1-C804 or Room 1-A804, 445 12th Street, SW., Washington, DC 20554 or via the Internet to jbherman@fcc.gov or lesmith@fcc.gov.

FOR FURTHER INFORMATION CONTACT: For additional information or copies of the information collection(s), contact Judy Boley Herman at 202-418-0214 or via the Internet at jbherman@fcc.gov.

SUPPLEMENTARY INFORMATION: OMB Control No.: 3060-0463.

Title: Telecommunications Services for Individuals with Hearing and Speech Disabilities and the Americans with Disabilities Act of 1990, 47 CFR Part 64 (Sections 64.601-64.605.

Form No.: N/A.

Type of Review: Extension of a currently approved collection.

Respondents: Business or other for-profit, state, local or tribal government.

Number of Respondents: 5,052.

Estimated Time Per Response: 5.31 hours (average hour per response).

Frequency of Response: On occasion, annual and every five year reporting requirements; third party disclosure requirement, and recordkeeping requirement.

Total Annual Burden: 26,831 hours.

Total Annual Cost: N/A.

Needs and Uses: The Americans with Disabilities Act of 1990 (ADA), Public Law 101-336, 104 Stat. 327, 366-69, was enacted on July 26, 1990. The purpose of the ADA is to provide a clear and comprehensive national mandate to end discrimination against individuals with disabilities and to bring persons with disabilities into the economic and social mainstream of American life; to provide enforceable standards addressing discrimination against individuals with disabilities; and to ensure that the Federal government play a central role in enforcing these standards on behalf of individuals with disabilities. Title IV of the ADA adds section 225 to the Communications Act of 1934. Section 225 requires the Commission to promulgate regulations that require all domestic telephone common carriers to provide telecommunications relay services (TRS). 47 CFR part 64, subpart F implements certain provisions of the ADA. It contains the operational technical, and functional standards required of all TRS providers and the procedures for state certification. In a Memorandum Opinion and Order (MO&O) issued in CC Docket No. 98-67, released December 21, 2001, the Commission adopted cost-recovery guidelines to telecommunications relay services (TRS), speech-to-speech relay services (STS), and video relay services (VRS). These guidelines are based, in part, on the recommendation of the Interstate TRS Advisory Council and the TRS Fund Administrator. Among other things, the Commission expanded TRS Data Request to capture separately STS costs and minutes include specific sections to capture separately VRS costs and minutes for this service. Other requirements approved under this control number and unaffected by the MO&O follow. Section 64.605 describes the state certification procedures by which states may apply to assert jurisdiction over the provisions of intrastate TRS. Section 64.604(c)(1) requires states to maintain a log of consumer complaints including all complaints about TRS in the state, whether filed with the TRS provider or the State, and must retain the log until the next application for certification is granted. Pursuant to section 64.604(c)(2) states must submit to the Commission a contact person or office for TRS consumer information and complaints about intrastate TRS. Pursuant to 47 CFR 64.604(b)(2), TRS providers must answer 85% of all relay calls within 10 seconds by a CA prepared to place the TRS call at the time. The calculation of whether a provider is in compliance with the “85-10 rule” must be performed on at least a daily basis.

Pursuant to 47 CFR 64.604(a)(2), STS CAs may retain information from a particular call in order to facilitate the completion of consecutive calls, at the request of the user. Pursuant to section 64.604(b)(6), relay providers shall electronically capture recorded messages and retain them for the length of the call. See 47 CFR0 64.604(b)(6). Section 64.604(c)(3) requires carriers, through publications in their directories, periodic billing inserts, placement of TRS instructions in telephone directories, through directory assistance services, and incorporation of TTY numbers in telephone directories, shall assure that callers in their service areas are aware of the availability and use of all forms of TRS. Pursuant to section 64.604(c)(5)(B) carriers must complete and submit a Telecommunications Reporting Worksheet. Section 64.604(c)(iii)(5)(C) requires TRS providers to provide the administrator with true and adequate data necessary to determine TRS fund revenue requirements and payments. Pursuant to section 64.604(c)(iii)(5)(E), in addition to the data required under paragraph (c)(5)(ii)(C) all TRS providers, including providers who are not interexchange carriers, local exchange carriers, or certified state relay providers, must submit reports of interstate TRS minutes of use to the administrator in order to receive payments. Section 64.604(c)(iii)(5)(F) lists TRS providers who are eligible for receiving payments from the TRS fund. These providers must notify the administrator of their intent to participate in the TRS Fund thirty days prior to submitting reports of TRS interstate minutes of use in order to receive payment settlements for interstate TRS. Section 64.604(c)(6)(v)(3) requires TRS providers to file with the Commission a statement designating an agent or agents whose principal responsibility will be to receive all complaints, inquiries, orders, decisions, and notices and other pronouncements forwarded by the Commission. Section 64.604(c)(7) requires that all future contracts between the TRS administrator and the TRS vendor shall provide for the transfer of TRS customer profile data from the outgoing TRS vendor to the incoming TRS vendor. Such data must be disclosed in usable form at least 60 days prior to the provider's last day of service provision. Section 64.604(c)(6) establishes complaint procedures for TRS. All the collections of information are promulgated pursuant to section 225 of the ADA which requires that the Commission ensures that telecommunications relay services are available to persons with hearing and speech disabilities in the United States.

OMB Control No.: 3060-0972.

Title: Multi-Association Group (MAG) Plan for Regulation of Interstate Services of Non-Price Cap Incumbent Local Exchange Carriers and Interexchange Carriers.

Form No.: N/A.

Type of Review: Extension of a currently approved collection.

Respondents: Business or other for-profit, state, local or tribal government.

Number of Respondents: 8,059.

Estimated Time Per Response: 4.81 hours (average hours per response), burden hour range per response is .13 hours to 93 hours.

Frequency of Response: On occasion, quarterly, annual and one-time reporting requirements; and third party disclosure requirement.

Total Annual Burden: 38,760 hours.

Total Annual Cost: $228,000.

Needs and Uses: In the Second Report and Order and Further Notice of Proposed Rulemaking in CC Docket No. 00-256, Fifteenth Reportl and Order in CC Docket No. 96-45, and Report and Order in CC Docket Nos. 98-77 and 98-166, the Commission modified its rules to reform the interstate access charge and universal service support system for incumbent local exchange carriers subject to rate-of-return regulation (non-price cap or rate of return carriers). Following are brief summaries of the collections imposed on telecommunications carriers based on rules adopted in the Report and Order. Certain carriers are required to file projected common line revenue requirements for each study area they operate; rate of return carriers will be required to submit interstate common line cost data annually and updated cost data on a quarterly basis; rate of return carriers will be required to file line counts by disaggregation zone and customer class; competitive eligible telecommunication carriers will file their line counts by disaggregation zone and customer class on a quarterly basis; rate of return carriers that elect to disaggregate and target support will be required to submit maps; carriers electing Path One must submit a copy of certifications to a state commission or appropriate regulatory authority that they will not disaggregate and target support; carriers selecting Path Two must submit a copy of the order by the state commission or appropriate regulatory authority approving the disaggregation plan submitted, along with a copy of the disaggregation plan itself; carriers receiving Interstate Common Line Support and LTS must file a certification annually indicating that they will use that support in a manner consistent with section 254(e); all rate of return carriers are required to modify their access tariffs to comply with the new Subscriber Line Charge caps; rate of return carriers must also file tariffs to recover through a separate end-user charge the costs of ISDN line ports and line ports associated with other services that exceed the costs of a line port used for basis analog service; rate of return carriers may use 30 percent of local switching costs as a proxy in shifting line port costs to the common line category, or may conduct a cost study; each carrier that was not in the NECA pool during the tariff year ending on June 30, 2001 must determine its TIC limit and report it to NECA; rate-of-return carriers may, at their option, establish the following local switching and transport rate elements: A flat charge for dedicated trunk port costs, a flat charge for the costs of DS1/voice grade multiplexers associated with terminating dedicated trunks at analog switches, a per-minute charge for shared trunk ports and any associated DS1/voice grade multiplexer costs, a flat charge for the costs of trunk ports used to terminate dedicated trunks on the serving wire center side of the tandem switch; individual charges for multiplexer costs associated with tandem switches, and a per-message call setup charge; and, rate-of-return carriers that use general purpose computers to provide non-regulated billing and collection services are required to allocate a portion of their general purpose computer costs to the billing and collection category, which will require them to determine general purpose computer investment. The Commission will use the information collected to determine whether and to what extent non-price cap or rate-of-return carriers providing the data are eligible to receive universal service support. The Commission will use the tariff data to make sure that rates are just and reasonable, as required by section 201(b) of the Act.

Federal Communications Commission.
William F. Caton,
Acting Secretary.

[FR Doc. 02-6378 Filed 3-15-02; 8:45 am]

BILLING CODE 6712-01-M